DEPARTMENT OF ENERGY

Federal Energy Regulatory Commission

[Project No.: 2210-169]

Appalachian Power Company; Notice of Application Accepted for Filing, Intent To Prepare an Environmental Impact Statement, Soliciting Motions To Intervene and Protests, Ready for Environmental Analysis, and Soliciting Comments, Recommendations, Preliminary Terms and Conditions, and Preliminary Fishway Prescriptions

August 7, 2008.

Take notice that the following hydroelectric application has been filed with the Commission and is available for public inspection.

a. Type of Application: New Major License.

b. Project No.: 2210-169.

c. Date Filed: March 27, 2008.

d. Applicant: Appalachian Power Company, dba American Electric Power.

e. Name of Project: Smith Mountain Pumped Storage Project.

f. Location: On the headwaters of the Roanoke River in south-central Virginia, within the counties of Bedford, Campbell, Franklin and Pittsylvania, and near the city of Roanoke, Virginia. No federal lands are occupied by the project works or otherwise located within the project boundary.

g. Filed Pursuant to: Federal Power Act 16 U.S.C. 791 (a)-825(r).

h. Applicant Contact: Teresa P. Rogers, Environmental and Regulatory Affairs Supervisor, Appalachian Power Company, Hydro Generation, P.O. Box 2021, Roanoke, VA 24022-2121; (540) 985-2441; tprogers@aep.com.

i. FERC Contact: Allan Creamer, Federal Energy Regulatory Commission, 888 First Street, NE., Washington, DC. 20426; (202) 502-8365; allan.creamer@ferc.gov.

j. The deadline for filing motions to intervene and protests, comments, recommendations, preliminary terms and conditions, and preliminary fishway prescriptions is 60 days from the issuance date of this notice (October 6, 2008) and reply comments are due 105 days from the issuance date of this notice (November 20, 2008).

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site (http://www.ferc.gov) under the “e-Filing” link.

k. This application has been accepted for filing and is ready for environmental analysis. The Commission intends to prepare an Environmental Impact Statement (EIS) on the project, in accordance with the National Environmental Policy Act. The EIS will consider both site-specific and cumulative environmental impacts and reasonable alternatives to the proposed action.

l. The Project Description: The existing Smith Mountain Project consists of two developments; one used for pumped storage operation and the other conventional operation.

The upper, pumped storage development, known as Smith Mountain, consists of: (1) A 816-foot-long, 235-foot-high concrete arch dam, with a crest elevation of 812.0 feet National Geodetic Vertical Datum (NGVD); (2) two ogee-crest overflow spillways, each 100-feet-long and having a crest elevation of 595.0 feet NGVD [passing 25,000 cubic feet per second (cfs)]; (3) a reservoir with a surface area of 20,260 acres at a normal operating level of 795.0 feet NGVD; (4) a pump station/powerhouse containing five generating units, with a total capacity of 586 megawatts (MW), a total hydraulic capacity of 46,000 cfs, and an average annual generation of 476,640 MWh (three of the units, which have a pumping capacity of 15,810 cfs, are reversible for pumping water from the Leesville's reservoir to Smith Mountain's reservoir); (5) a 600,000 KVA substation and a double-circuit 138-kV tie-in line to American Electric Power's (AEP) interconnected system; and (6) appurtenant facilities.

The lower, conventional development, known as Leesville, consists of: (1) A 980-foot-long, 94 foot-high concrete gravity dam, with a crest elevation of 615.67 feet NGVD; (2) a 224-foot-long gated spillway section, with (a) a crest elevation of 578.0 feet NGVD, (b) four taintor gates, and (c) a hydraulic capacity of 175,100 cfs; (3) a reservoir with a surface area of 3,260 acres at an elevation of 613.0 feet NGVD; (4) a powerhouse containing two generating units, with a total capacity of 50 MW, a total hydraulic capacity of 9,000 cfs, and an average annual generation of 59,376 MWh; (5) a 50,000 KVA substation and a double-circuit 138-kV tie-in line to AEP's interconnected system; and (6) appurtenant facilities.

The Smith Mountain development operates as a peaking/load-following facility, with generation occurring during peak demand periods and pump-back operation occurring during off-peak periods. Under normal operation, Smith Mountain Lake uses a 2-foot drawdown, which equates to a 13-foot fluctuation in Leesville Lake. Currently, Leesville is operated by auto-cycling the units, to provide a minimum average daily flow of 650 cfs to the Roanoke River downstream. Additional flow is provided during the spring spawning season for striped bass.

Appalachian Power does not propose to modify existing operations, except as described in its proposed Water Management Plan. Appalachian also proposes to implement numerous environmental enhancement measures that are contained in its proposed resource-specific management plans.

m. Location of the Application: A copy of the application is available for review at the Commission in the Public Reference Room or may be viewed on the Commission's Web site at http://www.ferc.gov, using the “eLibrary” link. Enter the docket number, excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests and other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS”; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule: The application will be processed according to the following Hydro Licensing Schedule. Revisions to the schedule may be made as appropriate.

Milestone | Target date
Filing of recommendations, preliminary terms and conditions, and fishway prescriptions | October 2008.
Commission issues Draft EIS | January 2009.
Comments on Draft EIS | March 2009.
Modified Terms and Conditions | May 2009.
Commission Issues Final EIS | August 2009.

p. Final amendments to the application must be filed with the Commission no later than 30 days from the issuance date of this notice.

Kimberly D. Bose,
Secretary.

[FR Doc. E8-18733 Filed 8-12-08; 8:45 am]

BILLING CODE 6717-01-P